DEPARTMENT OF COMMERCE

National Oceanic and Atmospheric Administration

[RTID 0648-XA020]

North Pacific Fishery Management Council; Public Meeting

AGENCY: National Marine Fisheries Service (NMFS), National Oceanic and Atmospheric Administration (NOAA), Commerce.

ACTION: Notice of telephonic meeting.

SUMMARY: The North Pacific Fishery Management Council's Pacific Northwest Crab Industry Advisory Committee (PNCIAC) will meet February 11, 2020.

DATES: The meeting will be held on Tuesday, February 11, 2020, from 1 p.m. to 5 p.m., PST.

ADDRESSES: The meeting will be held telephonically. Telephone number is 1-855-464-2233, or connect online through www.uberconference.com/abscconf the PIN is 3261.

Council address: North Pacific Fishery Management Council, 1007 West Third, Suite 400, Anchorage, AK 99501-2252; telephone: (907) 271-2809.

FOR FURTHER INFORMATION CONTACT: Sarah Marrinan, Council staff; telephone: (907) 271-2809, or Lance Farr, Committee Chair, (206) 669-7163.

SUPPLEMENTARY INFORMATION:

Agenda

Tuesday, February 11, 2020

The Committee will discuss: (a) Selection of new officers; (b) Board of Fisheries proposals; and (c) other business. Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Authority: 16 U.S.C. 1801 et seq.

Dated: January 22, 2020.
Tracey L. Thompson,
Acting Deputy Director, Office of Sustainable Fisheries, National Marine Fisheries Service.

[FR Doc. 2020-01271 Filed 1-24-20; 8:45 am]

BILLING CODE 3510-22-P